NATIONAL LABOR RELATIONS BOARD

Sunshine Act Meetings: July 2014

Time and Dates: All meetings are held at 2:00 p.m. Wednesday, July 2; Thursday, July 3; Tuesday, July 8; Wednesday, July 9; Thursday, July 10; Tuesday, July 15; Wednesday, July 16; Thursday, July 17; Tuesday, July 22; Wednesday, July 23; Thursday, July 24; Tuesday, July 29; Wednesday, July 30; Thursday, July 31.

PLACE: Board Agenda Room, No. 11820, 1099 14th St. NW., Washington, DC 20570

STATUS: Closed.

MATTERS TO BE CONSIDERED: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. § 552b(c)(10).

CONTACT PERSON FOR MORE INFORMATION: Henry Breiteneicher, Associate Executive Secretary, (202) 273-2917

Dated: July 2, 2014.
William B. Cowen,
Solicitor.

[FR Doc. 2014-15919 Filed 7-2-14; 4:15 pm]

BILLING CODE 7545-01-P